SECURITIES AND EXCHANGE COMMISSION

[File No. 500-1]

Order of Suspension of Trading; In the Matter of Kolasco Corp.

November 10, 2014.

It appears to the Securities and Exchange Commission that there is a lack of current and accurate information concerning the securities of Kolasco Corp. because of questions regarding control over the company and the accuracy of company information, including in filings with the Commission, concerning, among other things, the company's acting officers. Kolasco Corp. is a Nevada corporation with its principal place of business located in Toronta, Canada. Its stock is quoted on OTC Link, operated by OTC Markets Group Inc., under the ticker: KLSC.

The Commission is of the opinion that the public interest and the protection of investors require a suspension of trading in the securities of the above-listed company.

Therefore, it is ordered, pursuant to Section 12(k) of the Securities Exchange Act of 1934, that trading in the securities of the above-listed company is suspended for the period from 9:30 a.m. EST, on November 10, 2014 through 11:59 p.m. EST, on November 21, 2014.

By the Commission.
Jill M. Peterson,
Assistant Secretary.

[FR Doc. 2014-26959 Filed 11-10-14; 4:15 pm]

BILLING CODE 8011-01-P